NATIONAL SCIENCE FOUNDATION

National Science Board; Workshop on Understanding Transformative Research Programs at the National Science Foundation; Sunshine Act Meeting

Date and Time: August 12, 2005, 8:30 a.m.-5:15 p.m. (ET).

Place: National Science Foundation, 4201 Wilson Boulevard, Rooms 1235, 375 and 320, Arlington, VA 22230.

Publice Meeting Attendance: All visitors must report to the NSF's visitor's desk at the 9th and N. Stuart Streets entrance to receive a visitor's badge.

Contact Information: Please refer to the National Science Board Web site (http://www.nsf.gov/nsb) for updated Agenda. NSB Office: (703) 292-7000.

Status: This Workshop will be open to the public.

Provisional Workshop Agenda

Room 1235

8:30 a.m.-8:50 a.m.—Introduction and Overview.

8:50 a.m.-9 a.m.—Welcoming Remarks.

9 a.m.-10 a.m.—Topic I: Exemplar Transformative Research Funded by NSF.

10:15 a.m.-11:15 a.m.—Topic II: NSF Culture and Effect on Funding Potentially Transformative Research.

11:15 a.m.-12:15 p.m.—Topic III: NSF Mechanisms and Procedures for Supporting Potentially Transformative Research.

Rooms 375 and 320

12:30 p.m.-1:45 p.m.—Breakout Session I: Enhancing the Ability of NSF To Identify and Nurture Potentially Transformative Research.

• Role of Program Officers

• Role of Committees of Visitors

• Role of Advisory Committees

2 p.m.-3:15 p.m.—Breakout Session II: Improving NSF's Ability To Fund Potentially Transformative Research.

• Community Awareness

• Inhibitors for Current Mechanisms

• New Mechanisms

Room 1235

3:30 p.m.-5 p.m.—Plenary Meeting for Breakout Sessions I and II.

5 p.m.-5:15 p.m.—Summaries of Discussions and Next Steps for the NSB Task Force on Transformative Research.

Michael P. Crosby,
Executive Officer and NSB Office Director.

[FR Doc. 05-15249 Filed 7-28-05; 3:13 pm]

BILLING CODE 7555-01-P